DEPARTMENT OF TRANSPORTATION

Federal Aviation Administration

14 CFR Part 71

[Docket No. FAA-2015-7485; Airspace Docket No. 15-AGL-25]

Amendment of Class D and Class E Airspace; Minot, ND

AGENCY: Federal Aviation Administration (FAA), DOT.

ACTION: Final rule, correction.

SUMMARY: This action further corrects a final rule published in the Federal Register of February 4, 2016, and corrected in the Federal Register of March 3, 2016, amending the Class D and E airspace areas at Minot International Airport, Minot, ND. This correction adds part-time Notice to Airmen (NOTAM) language inadvertently removed to the Class E surface area description, and removes duplicative Class E extension airspace boundary information language from the Class E surface area description.

DATES: Effective 0901 UTC, March 31, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

On February 4, 2016, the FAA published a final rule in the Federal Register amending the Class E surface area and Class E extension airspace areas at Minot International Airport, Minot, ND (81 FR 5903) Docket No. FAA-2015-7485. A final rule correction was published in the Federal Register to include Class D and Class E airspace extending upward from the surface (81 FR 11103, March 3, 2016). Subsequent to publication, the FAA determined the part-time NOTAM language in the Class E surface area description was inadvertently removed in error, and the Class E extension airspace boundary information that is contained in the Class E surface area description should be removed. Potential safety concerns were identified due to the possibility for confusion in determining the operating rules and equipment requirements in the Minot International Airport terminal area. The concerns were based on the opportunity for part-time Class D surface area airspace and continuous Class E surface area airspace to be active at the same time, as well as having the same Class E extension airspace boundary information published in both the Class E surface area and the Class E extension airspace descriptions.

To resolve these concerns, the FAA is keeping the part-time NOTAM language in the Class E surface area description to retain it as part-time airspace supplementing the existing part-time Class D surface area airspace at Minot International Airport, and removing the Class E extension airspace boundary information from the Class E surface area description. The regulatory text is rewritten for clarity. These are administrative corrections and do not affect the controlled airspace boundaries or operating requirements supporting operations in the Minot International Airport terminal area.

Correction to Final Rule

Accordingly, pursuant to the authority delegated to me, in the Federal Register of February 4, 2016 (81 FR 5903) FR Doc. 2016-02036, and corrected in the Federal Register of March 3, 2016 (81 FR 11103) FR Doc. No. 2016-04482, Amendment of Class D and Class E Airspace, Minot, ND, is corrected as follows:

§ 71.1 [Amended]

AGL ND E2 Minot, ND [Corrected]

On page 5904, column 3, beginning on line 29, remove the following text: “Within a 4.2-mile radius of Minot International Airport and within 3.5 miles each side of the Minot VORTAC 129 ° radial, extending from the 4.2-mile radius of the airport to 7 miles southeast of the VORTAC, and within 3.5 miles each side of the Minot VORTAC 260 ° radial, extending from the 4.2-mile radius of the airport to 7 miles west of the VORTAC, and within 3.5 miles each side of the Minot VORTAC 327 ° radial, extending from the 4.2-mile radius of the airport to 7 miles northwest of the VORTAC, and within 3.5 miles each side of the Minot VORTAC 097 ° radial, extending from the 4.2-mile radius to 7 miles east of the VORTAC, excluding the portion which overlies the Minot AFB, ND, Class D airspace area”; and add in its place the following text:

“Within a 4.2-mile radius of Minot International Airport. This Class E airspace area is effective during the specific dates and times established in advance by a Notice to Airman. The effective date and time will thereafter be continuously published in the Airport/Facility Directory.”

Issued in Fort Worth, Texas, on March 16, 2016.
Walter Tweedy,
Acting Manager, Operations Support Group, ATO Central Service Center.

[FR Doc. 2016-06835 Filed 3-25-16; 8:45 am]

BILLING CODE 4910-13-P